DEPARTMENT OF ENERGY

Federal Energy Regulatory Commission

[Docket No. RP02-145-000]

Williston Basin Interstate Pipeline Company; Notice of Tariff Filing

January 23, 2002.

Take notice that on January 15, 2002, Williston Basin Interstate Pipeline Company (Williston Basin), P.O. Box 5601, Bismarck, North Dakota 58506-5601, tendered for filing a revised tariff sheet to Second Revised Volume No. 1 of its FERC Gas Tariff to become effective February 1, 2002.

Williston Basin states that the revised tariff sheet reflects the termination of the GSR surcharge applicable to Rate Schedule FT-1 effective February 1, 2002.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2106 Filed 1-28-02; 8:45 am]

BILLING CODE 6717-01-P